DEPARTMENT OF ENERGY

Federal Energy Regulatory Commission

[Docket No. CP25-54-000]

Gulf South Pipeline Company, LLC; Notice of Schedule for the Preparation of an Environmental Assessment for the Parks Line Upgrade and Sorrento Station Project

On January 28, 2025, Gulf South Pipeline Company, LLC (Gulf South) filed an application in Docket No. CP25-54-000 requesting a Certificate of Public Convenience and Necessity and authorization pursuant to Sections 7(b) and 7(c) of the Natural Gas Act for the Parks Line Upgrade and Sorrento Station Project (Project) in St. Martin and Ascension parishes, Louisiana. Gulf South proposes to add 236,000 dekatherms per day (Dth/d) of capacity through (1) restoration of maximum allowable operating pressure (MAOP) of the Arnaudville to Parks Line (Parks Line or Index 330) and (2) construction of the new Sorrento Compressor Station on Gulf South's Index 270 system in southern Louisiana. According to Gulf South, the Project would restore and enhance system capability and reliability while supporting regional energy needs.

On February 11, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1744214872.

Schedule for Environmental Review

Issuance of EA | September 5, 2025.
90-day Federal Authorization Decision Deadline ² | December 4, 2025.

If a schedule change becomes necessary, additional notice will be provided so that the relevant agencies are kept informed of the Project's progress.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

Project Description

The Project would consist of the facilities detailed below. Restoration of the Parks Line (Index 330) MAOP:

• replacement of eleven segments, equaling 4.5 miles of the 30-inch-diameter Parks Line (Index 330) in St. Martin Parish, allowing for the pipeline to operate at its certificated MAOP of 1,000 pounds per square inch;

• reestablishment of unmetered rural tap located at milepost 54.93; and

• removal of one inactive tap at milepost 52.76.

Construction of the Sorrento Compressor Station

• construction of the new 12,510-horsepower Sorrento Compressor Station with auxiliary station equipment and a new meter and regulating (M&R) station;

• connection of Gulf South's existing Index 270 pipeline through two new, 0.29-mile-long 30-inch-diameter discharge pipelines, terminating at the proposed Sorrento mainline valve; and

• construction of 1.06 miles of 20-inch-diameter pipeline to connect the proposed M&R station to an inline tool receiver site, which would include a pig receiver, valve assembly, and security fencing.

Background

On March 12, 2025, the Commission issued a Notice of Scoping Period Requesting Comments on Environmental Issues for the Proposed Parks Line Upgrade and Sorrento Station Project (Notice of Scoping). The Notice of Scoping was sent to affected landowners; federal, state, and local government agencies; elected officials; environmental and public interest groups; Native American tribes; other interested parties; and local libraries and newspapers. In response to the Notice of Scoping, the Commission received one comment from the Louisiana Ecological Services Office recommending use of the Information for Planning and Consultation species tool. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-54), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: April 11, 2025.
Debbie-Anne A. Reese,
Secretary.

[FR Doc. 2025-06619 Filed 4-16-25; 8:45 am]

BILLING CODE 6717-01-P